DEPARTMENT OF ENERGY

Federal Energy Regulatory Commission

[Project No. 2659-011]

PacifiCorp; Notice of Meeting To Discuss Settlement Negotiations and Surrender Application

March 6, 2003.

a. Date and Time of Meeting: March 17, 2003; 10 a.m. Pacific Standard Time.

b. Place: Conference Call.

c. FERC Contact: Bob Easton at robert.easton@ferc.gov or (202) 502-6045.

d. Purpose of Meeting: PacifiCorp and various stakeholders have requested a meeting with Commission staff to discuss ongoing settlement negotiations which are anticipated to result in filing of a surrender application for the Powerdale Project (P-2659-011) in late March or early April 2003. The project is located on the Hood River in Hood River, Oregon.

e. Proposed Agenda: (1) Introduction of participants, (2) PacifiCorp/stakeholder presentation on negotiations and/or application, (3) Discussion, and (5) Close Meeting.

f. All local, state, and federal agencies, Indian tribes, and other interested parties are invited to join the conference call. Please call Bob Easton at (202) 502-6045 at least one day in advance for instructions on how to join the conference call.

Magalie R. Salas,
Secretary.

[FR Doc. 03-6026 Filed 3-12-03; 8:45 am]

BILLING CODE 6717-01-P